NUCLEAR REGULATORY COMMISSION

10 CFR Part 50

Public Workshop on Performance-Based Approach—Voluntary Option

AGENCY: Nuclear Regulatory Commission.

ACTION: Notice of workshop.

SUMMARY: The Nuclear Regulatory Commission (NRC) will host a public workshop to solicit feedback on the implementation of the direct final rule for 10 CFR 50.54(a) and to gather information to determine the need for the development of the voluntary alternative rulemaking based on Nuclear Energy Institute petition PRM-50-62. On February 23, 1999, the NRC published a direct final rule in the Federal Register (64 FR 9029), that amended its regulations to permit power reactor licensees to implement certain quality assurance (QA) program changes without obtaining prior NRC approval of these changes. The direct final rule became effective on April 26, 1999. Based on the workshop outcome, the staff will determine whether additional rulemaking is warranted. The NRC invites comments from interested parties who are unable to attend the workshop.

DATES: The workshop will be held on Wednesday, June 7, 2000, from 9 a.m. to 12 p.m.

ADDRESSES: U.S. Nuclear Regulatory Commission, One White Flint North (Room 14 B6), 11555 Rockville Pike, Rockville, MD 20852-2738, (301) 415-7000.

FOR FURTHER INFORMATION CONTACT: Robert Pettis, Office of Nuclear Reactor Regulation, U.S. Nuclear Regulatory Commission, Washington, DC 20555, telephone: (301) 415-3214, email rlp4@nrc.gov.

SUPPLEMENTARY INFORMATION: The discussion topics are tentative and subject to change. Anyone interested in providing a presentation on these or other related topics, please contact Robert Pettis at (301) 415-3214.

Dated at Rockville, Maryland this 12th day of May, 2000.
For the Nuclear Regulatory Commission.
Theodore R. Quay,
Chief, IQMB, Division of Inspection Program Management, Office of Nuclear Reactor Regulation.

[FR Doc. 00-12621 Filed 5-18-00; 8:45 am]

BILLING CODE 7590-01-P